NATIONAL SCIENCE FOUNDATION

Sunshine Act Meetings

The National Science Board's Committee on Strategy's Subcommittee on Technology, Innovation and Partnerships hereby gives notice of the scheduling of a teleconference for the transaction of National Science Board business pursuant to the NSF Act and the Government in the Sunshine Act.

TIME AND DATE: Tuesday, November 21, 2023, from 3:30-4:30 p.m. Eastern.

PLACE: This meeting will be via videoconference through the National Science Foundation, 2415 Eisenhower Avenue, Alexandria, VA 22314.

STATUS: Closed

MATTERS TO BE CONSIDERED: The agenda is:

• Subcommittee Chair's opening remarks regarding the agenda

• Discussion of Draft TIP Roadmap

• Discussion of NSF's Regional Innovation Engines 2 Portfolio

CONTACT PERSON FOR MORE INFORMATION: Point of contact for this meeting is: Chris Blair, cblair@nsf.gov, 703/292-7000. Meeting information and updates may be found at www.nsf.gov/nsb.

Christopher Blair,
Executive Assistant to the National Science Board Office.

[FR Doc. 2023-25608 Filed 11-15-23; 4:15 pm]

BILLING CODE 7555-01-P